DEPARTMENT OF DEFENSE

Defense Acquisition Regulations System

48 CFR Parts 217, 239, and 252

[Docket DARS-2015-0069]

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective November 30, 2015.

FOR FURTHER INFORMATION CONTACT: Ms. Jennifer L. Hawes, Defense Acquisition Regulations System, OUSD(AT&L)DPAP(DARS), Room 3B941, 3060 Defense Pentagon, Washington, DC 20301-3060. Telephone 571-372-6115; facsimile 571-372-6094.

SUPPLEMENTARY INFORMATION: This final rule amends the DFARS as follows:

1. Directs contracting officers to additional DFARS Procedures, Guidance, and Information (PGI) by adding references at—

• DFARS 217.500(b) to PGI 217.502-1;

• DFARS 217.502-1(a)(1) and (b)(1) to PGI 217.502-1(a)(1) and (b)(1), respectively; and

• DFARS 239.7603 to PGI 239.7603.

2. Makes conforming changes at DFARS 239.7604, 252.239-7009, and 252.239-7010.

List of Subjects in 48 CFR 217, 239, and 252

Government procurement.

Jennifer L. Hawes,
Editor, Defense Acquisition Regulations System.

Therefore, 48 CFR parts 217, 239, and 252 are amended as follows:

1. The authority citation for 48 CFR parts 217, 239, and 252 continues to read as follows:

Authority: 41 U.S.C. 1303 and 48 CFR chapter 1.

PART 217—SPECIAL CONTRACTING METHODS

2. In section 217.500, paragraph (b) is added to read as follows:

217.500 Scope of subpart.

* * * * *

(b) A contracting activity from one DoD Component may provide acquisition assistance to deployed DoD units or personnel from another DoD Component. See PGI 217.502-1 for guidance and procedures.

3. Sections 217.502 and 217.502-1 are added to read as follows:

217.502 Procedures.

217.502-1 General.

(a) Determination of best procurement approach—(1) Assisted acquisitions. Follow the procedures at PGI 217.502-1(a)(1), when a contracting activity from one DoD Component provides acquisition assistance to deployed DoD units or personnel from another DoD Component.

(b) Written agreement on responsibility for management and administration—(1) Assisted acquisitions. Follow the procedures at PGI 217.502-1(b)(1), when a contracting activity from a DoD Component provides acquisition assistance to deployed DoD units or personnel from another DoD Component.

PART 239—ACQUISITION OF INFORMATION TECHNOLOGY

239.7603 [Redesignated as 239.7604]

4. Redesignate section 239.7603 as section 239.7604.

5. Add new section 239.7603 to read as follows:

239.7603 Procedures.

Follow the procedures relating to cloud computing at PGI 239.7603.

PART 252—SOLICITATION PROVISIONS AND CONTRACT CLAUSES

252.239-7009 [Amended]

6. Amend section 252.239-7009, in the introductory text, by removing “239.7603(a)” and adding “239.7604(a)” in its place.

252.239-7010 [Amended]

7. Amend section 252.239-7010, in the introductory text, by removing “239.7603(b)” and adding “239.7604(b)” in its place.

[FR Doc. 2015-30307 Filed 11-27-15; 8:45 am]

BILLING CODE 5001-06-P